FEDERAL COMMUNICATIONS COMMISSION

47 CFR Part 1

[IB Docket No. 98-118; FCC 99-51]

Cable Landing Licenses, Correction

AGENCY: Federal Communications Commission.

ACTION: Final rule; correction.

SUMMARY: This document contains a correction to the correction to the biennial review of international common carrier regulations published in the Federal Register of August 25, 2000. Inadvertently, the rule contained an incorrect word. This document corrects that error.

DATES: Effective September 11, 2000.

FOR FURTHER INFORMATION CONTACT: Peggy Reitzel, International Bureau, Telecommunications Division, Federal Communications Commission, and (202) 418-1499.

SUPPLEMENTARY INFORMATION: The FCC published a correction document in the Federal Register of August 25, 2000, (65 FR 51768). In that document, § 1.767(e) contained an incorrect word. On page 51769, in the first column, in § 1.767(e), in the fourth line, the word “required” is corrected to read “requested”.

Federal Communications Commission.
Magalie Roman Salas,
Secretary.

[FR Doc. 00-23155 Filed 9-8-00; 8:45 am]

BILLING CODE 6712-01-P